DEPARTMENT OF HOMELAND SECURITY

Coast Guard

33 CFR Part 100

[Docket No. USCG-2025-0659]

Special Local Regulation, Seattle Seafair Unlimited Hydroplane Race

AGENCY: Coast Guard, DHS.

ACTION: Notification of enforcement of regulation.

SUMMARY: The Coast Guard will enforce the special local regulations for the Seattle Seafair Unlimited Hydroplane Race from 8 a.m. until 5 p.m., each day from July 31, 2025, through August 3, 2025, to provide for the safety of life on navigable waterways during this event. The regulation for this event identifies the regulated area on Lake Washington, Seattle, Washington. During the enforcement periods, vessels and persons in the regulated area must comply with the lawful directions from the Coast Guard designated Patrol Commander, the established Coast Guard patrol, and any federal, state, and local law enforcement agencies assisting the Patrol Commander.

DATES: The regulations in 33 CFR 100.1301 will be enforced from 8 a.m. until 5 p.m., each day, from July 31, 2025, through August 3, 2025.

FOR FURTHER INFORMATION CONTACT: If you have questions about this notification of enforcement, call or email Lieutenant Anthony Pinto, U.S. Coast Guard, Sector Puget Sound, Waterways Management Division; by telephone 206-217-6051, or email SectorPugetSoundWWM@uscg.mil.

SUPPLEMENTARY INFORMATION: The Coast Guard will enforce the special local regulation in 33 CFR 100.1301 for the Seattle Seafair Unlimited Hydroplane Race from 8 a.m. until 5 p.m., each day, on July 31, 2025 through August 3, 2025. This action is being taken to provide for the safety of life on navigable waterways during this event. The regulation for this event, 33 CFR 100.1301(b), specifies the location of the regulated area for the Seattle Seafair Unlimited Hydroplane Race which encompasses portions of Lake Washington, Seattle, Washington. The regulated area is divided into two zones. The zones are separated by a line perpendicular from the I-90 Bridge to the northwest corner of the East log boom and a line extending from the southeast corner of the East log boom to the southeast corner of the hydroplane race-course and then to the northerly tip of Ohlers Island in Andrews Bay. The western zone is designated Zone I, the eastern zone, Zone II. The Coast Guard will maintain a patrol consisting of Coast Guard vessels, assisted by Auxiliary Coast Guard vessels in Zone II. The Coast Guard patrol of this area is under the direction of the Coast Guard Patrol Commander (Patrol Commander). The Patrol Commander is empowered to control the movement of vessels on the race-course and in the adjoining waters during the periods this regulation is in effect. The Patrol Commander may be assisted by other federal, state, and local law enforcement agencies.

Only authorized vessels may be allowed to enter Zone I during the hours this regulation is in effect. Vessels in the vicinity of Zone I shall maneuver and anchor as directed by Coast Guard Officers or Petty Officers.

During the times in which the regulation is in effect, swimming, wading, or otherwise entering the water in Zone I by any person is prohibited while hydroplane boats are on the race-course. At other times in Zone I, any person entering the water from the shoreline shall remain west of the swim line, denoted by buoys, and any person entering the water from the log boom shall remain within ten (10) feet of the log boom.

During the times in which the regulation is in effect, any person swimming or otherwise entering the water in Zone II shall remain within ten (10) feet of a vessel.

During the times this regulation is in effect, rafting to a log boom will be limited to groups of three (3) vessels.

During the times this regulation is in effect, up to six (6) vessels may raft together in Zone II if none of the vessels are secured to a log boom.

During the times this regulation is in effect, only vessels authorized by the Patrol Commander, other law enforcement agencies, or event sponsors shall be permitted to tow other watercraft of inflatable devices.

Vessels proceeding in either Zone I or Zone II during the hours this regulation is in effect shall do so only at speeds which will create minimum wake, seven (7) miles per hour or less. This maximum speed may be reduced at the discretion of the Patrol Commander.

Upon completion of the daily racing activities, all vessels leaving either Zone I or Zone II shall proceed at speeds of seven (7) miles per hour or less. The maximum speed may be reduced at the discretion of the Patrol Commander.

A succession of sharp, short signals by whistle or horn from vessels controlling the areas under the direction of the Patrol Commander shall serve as signal to stop. Vessels signaled shall stop and shall comply with lawful orders of the patrol vessel; failure to do so may result in expulsion from the area, citation for failure to comply, or both.

The Coast Guard may be assisted by other federal, state, and local law enforcement agencies, as well as official Seafair event craft.

In addition to this notification of enforcement in the Federal Register, the Coast Guard plans to provide notification of this enforcement period via marine information broadcasts, and Local Notice to Mariners.

Dated: July 23, 2025.
Mark A. McDonnell,
Captain, U.S. Coast Guard, Captain of the Port, Sector Puget Sound.

[FR Doc. 2025-14396 Filed 7-29-25; 8:45 am]

BILLING CODE 9110-04-P